DEPARTMENT OF HOMELAND SECURITY

Federal Emergency Management Agency

Notice of Meeting Cancellation: Advisory Committee of the Board of Visitors for the National Fire Academy

AGENCY: U.S. Fire Administration (USFA), FEMA, Emergency Preparedness and Response, Department of Homeland Security.

ACTION: Notice of meeting cancellation.

SUMMARY: In accordance with section 10(a)(2) of the Federal Advisory Committee Act, 5 U.S.C. App. 2, FEMA announces the following committee meeting cancellation:

Name: Board of Visitors (BOV) for the National Fire Academy.

Dates of Meeting: May 6-7, 2004.

Place: Building H, Room 300, National Emergency Training Center, Emmitsburg, Maryland.

Dated: April 21, 2004.
R. David Paulison,
U.S. Fire Administrator, Director of the Preparedness Division.

[FR Doc. 04-9829 Filed 4-29-04; 8:45 am]

BILLING CODE 6718-08-P